DEPARTMENT OF THE INTERIOR

National Park Service

General Management Plan and Final Environmental Impact Statement, Walnut Canyon National Monument, Arizona

AGENCY: National Park Service, Interior.

ACTION: Notice of Availability of the Final Environmental Impact Statement/General Management Plan for Walnut Canyon National Monument.

SUMMARY: Pursuant to section 102(2)(C) of the National Environmental Policy Act of 1969, the National Park Service announces the availability of the Final Environmental Impact Statement/General Management Plan (FEIS/GMP) for Walnut Canyon National Monument, Arizona.

DATES: The FEIS/GMP was on public review from November 6, 2001 through January 7, 2002. Responses to public comment are addressed in the documents. A 30-day no-action period will follow the Environmental Protection Agency's Notice of Availability of the FEIS/GMP.

ADDRESSES: Copies of the FEIS/GMP are available from the Superintendent, Flagstaff Area National Monuments (Wupatki, Sunset Crater Volcano, and Walnut Canyon), 6400 N. Highway 89, Flagstaff, Arizona 86004. Public reading copies of the FEIS/GMP will be available for review at the following locations:

Office of the Superintendent, 6400 N. Highway 89, Flagstaff, Arizona 86004, Telephone: 928-526-1157.

Planning and Environmental Quality, Intermountain Support Office—Denver (Room 20), National Park Service, 12795 W. Alameda Parkway, Lakewood, CO 80228, Telephone: (303) 969-2377.

Office of Public Affairs, National Park Service, Department of the Interior, 18th and C Streets, NW., Washington, DC 20240, Telephone: (202) 208-6843.

SUPPLEMENTARY INFORMATION: The Walnut Canyon FEIS/GMP evaluates the environmental consequences of the proposed action and the other alternatives on archeological resources, historic character of the built environment, long-term integrity of ethnographic resources, natural systems and processes, and threatened, endangered, and sensitive species. Impacts are also detailed on visitors' ability to experience park resources; park neighbors, local, state, and tribal land management plans and land/resource managing agencies; and operational efficiency. The preferred alternative would preserve untrailed expanses, unfragemented natural systems, and relatively pristine conditions throughout the park. it would protect Walnut Canyon as a critical wildlife corridor. Visitation would be managed with the goal of providing quality learning opportunities in an intimate atmosphere while maintaining the health of the canyon ecosystem. The natural soundscape and tranquil setting of the canyon would be enhanced through strategic placement of facilities. The park would remain day use only. Efforts would be made to provide a broader range of educational offerings, and a greater number of archeological sites would be available for visitation.

FOR FURTHER INFORMATION CONTACT: Contact Superintendent, Flagstaff Area National Monuments at the address listed above.

Dated: November 15, 2006.
Michael D. Snyder,
Director, Intermountain Region, National Park Services.

Editorial Note: This document was received at the Office of the Federal Register March 14, 2007.

[FR Doc. 07-1314 Filed 3-16-07; 8:45 am]

BILLING CODE 4312-04-M